FEDERAL TRADE COMMISSION

[File No. 012 3091]

Michael Forrest, d/b/a Jaguar Enterprises of Santa Ana; Analysis To Aid Public Comment

AGENCY: Federal Trade Commission.

ACTION: Proposed consent agreement.

SUMMARY: The consent agreement in this matter settles alleged violations of federal law prohibiting unfair or deceptive acts or practices or unfair methods of competition. The attached Analysis to Aid Public Comment describes both the allegations in the complaint that accompanies the consent agreement and the terms of the consent order—embodied in the consent agreement—that would settle these allegations.

DATES: Comments must be received on or before July 16, 2001.

ADDRESSES: Comments should be directed to: FTC/Office of the Secretary, Room 159, 600 Pennsylvania Ave., NW., Washington, DC 20580.

FOR FURTHER INFORMATION CONTACT: Michael Milgrom, Federal Trade Commission, East Central Region, Eaton Center, Suite 200, 1111 Superior Ave., Cleveland, OH 44114-2507. (216) 263-3419.

SUPPLEMENTARY INFORMATION: Pursuant to section 6(f) of the Federal Trade Commission Act, 38 Stat. 721, 15 U.S.C. 46 and section 2.34 of the Commission's Rules of Practice (16 CFR 2.34), notice is hereby given that the above-captioned consent agreement containing a consent order to cease and desist, having been filed with and accepted by the Commission, has been placed on the public record for a period of thirty (30) days. The following Analysis to Aid Public Comment describes the terms of the consent agreement, and the allegations in the complaint. An electronic copy of the full text of the consent agreement package can be obtained from the FTC Home Page (for June 14, 2001), on the World Wide Web, at “http://www.ftc.gov/os/2001/06/index.htm.” A paper copy can be obtained from the FTC Public Reference Room, Room H-130, 600 Pennsylvania Avenue, NW., Washington, DC 20580, either in person or by calling (202) 326-3627.

Public comment is invited. Comments should be directed to: FTC/Office of the Secretary, Room 159, 600 Pennsylvania Ave., NW., Washington, DC 20580. Two paper copies of each comment should be filed, and should be accompanied, if possible, by a 3½ inch diskette containing an electronic copy of the comment. Such comments or views will be considered by the Commission and will be available for inspection and copying at its principal office in accordance with section 4.9(b)(6)(ii) of the Commission's Rules of Practice (16 CFR 4.9(b)(6)(ii)).

Analysis of Proposed Consent Order To Aid Public Comment

The Federal Trade Commission has accepted an agreement, subject to final approval, to a proposed consent order from Michael Forrest, individually and d/b/a Jaguar Enterprises of Santa Ana (“Forrest” or the “proposed respondent”). Forrest is an Internet seller of various electronic devices and herbal remedies purported to cure or treat a wide variety of illnesses and conditions.

The proposed consent order has been placed on the public record for thirty (30) days for reception of comments by interested persons. Comments received during this period will become part of the public record. After thirty (30) days, the Commission will again review the agreement and the comments received and will decide whether it should withdraw from the agreement and take other appropriate action or make final the agreement's proposed order.

This matter concerns advertising and promotional practices related to the sale of various products known as Black Box, Magnetic Pulser, Magnetic Multi-Pulser, Beck-Rife unit, Portable Rife Frequency Generator, PC-Rife#1, PC-Rife#2, PC-Rife#3, and Miracle Herbs. Miracle Herbs is a combination of herbal ingredients purported to cure cancer and other serious diseases. The other products are devices that purport to cure cancer, AIDS, arthritis and other serious diseases by means of passing either an electric current or a magnetic pulse through the body. The Commission's complaint charges that Forrest failed to have a reasonable basis for the following claims, which were made on two Internet websites:

(1) The Black Box is effective in treating cancer, AIDS, hepatitis, Gulf War Syndrome, Chronic Fatigue Syndrome and rheumatoid arthritis;

(2) The Magnetic Pulser, together with the Black Box, is effective in treating cancer, AIDS, hepatitis, Gulf War Syndrome, Chronic Fatigue Syndrome and rheumatoid arthritis;

(3) The Magnetic Multi-Pulser is effective in treating cancer, localized infections and diseases caused by the herpes virus;

(4) The Beck-Rife unit, Portable Rife Frequency Generator, PC-Rife #1, PC-Rife #2, and PC-Rife #3 are effective in treating cancer and other serious diseases;

(5) The Black Box, Magnetic Pulser and Magnetic Multi-Pulser, used as directed, deactivate disease-causing viruses, bacteria (including drug-resistant bacteria), fungi and other parasites in humans; and

(6) The Miracle herbs product is effective in treating cancers of all types, AIDS, bacterial infections and viral infections.

The Complaint also alleges that Forrest claimed that scientific proof demonstrated the truth of two claims: (1) That Miracle Herbs is safe and effective in treating various cancers in humans with no side effects; and, (2) that use of the Black Box, Magnetic Pulser and Magnetic Multi-Pulser is effective to kill, deactivate or disable viruses, bacteria, fungi and other parasites in humans. The Complaint alleges that these claims of scientific proof are false.

Part I of the consent order requires that Forrest not misrepresent that the two claims listed above are scientifically proven.

Part II requires that Forrest must possess competent and reliable scientific evidence to substantiate any representation that:

(a) Any electronic therapy device or any other product or service is effective in (1) treating or curing cancer, AIDS, hepatitis, Gulf War Syndrome, Chronic Fatigue Syndrome, rheumatoid arthritis or Herpes; (2) treating or preventing bacterial infections; or (3) treating or preventing viral infections;

(b) That any such product or service is effective in the mitigation, treatment, prevention, or cure of any disease or illness; or

(c) About the health benefits, performance, safety, or efficacy of any such product or service.

Part III prohibits false claims about scientific support for any electronic therapy device or any service, program, dietary supplement, food, drug, or device. Part IV permits Forrest to make certain claims for devices, drugs or dietary supplements that are permitted in labeling under laws and/or regulations administered by the U.S. Food and Drug Administration. Parts V and VI require Forrest to offer and make a refund to all purchasers of the listed products from Jaguar since April 1, 1999, using the forms and procedures specified. Part VII requires Forrest to file a report with the Commission detailing how he has complied with Parts V and VI.

The remainder of the proposed order contains standard requirements that proposed respondent maintain advertising and any materials relied upon as substantiation for any representation covered by substantiation requirements under the order; distribute copies of the order to certain company officials and employees; distribute copies of the order to any distributors that it might set up; notify the Commission of any change in his status that may affect compliance obligations under the order; and file one or more reports detailing his compliance with the order. Part XIV of the proposed order is a provision whereby the order, absent certain circumstances, terminates twenty years from the date of issuance.

This proposed order, if issued in final form, will resolve the claims alleged in the complaint against the named respondent. it is not the Commission's intent that acceptance of this consent agreement and issuance of a final decision and order will release any claims against any unnamed persons or entities associated with the conduct described in the complaint. The purpose of this analysis is to facilitate public comment on the proposed order, and is not intended to constitute an official interpretation of the agreement and proposed to order or to modify in any way their terms.

By direction of the Commission.
Donald S. Clark,
Secretary.

[FR Doc. 01-15549 Filed 6-19-01; 8:45 am]

BILLING CODE 6750-01-M